DEPARTMENT OF HEALTH AND HUMAN SERVICES

National Institutes of Health

Office of the Secretary; Notice of Meeting

Pursuant to section 10(a) of the Federal Advisory Committee Act, as amended, notice is hereby given of a meeting of the Interagency Pain Research Coordinating Committee.

The meeting will be open to the public. Individuals who plan to participate and need special assistance, such as sign language interpretation or other reasonable accommodations, should notify the Contact Person listed below in advance of the meeting.

Name of Committee: Interagency Pain Research Coordinating Committee.

Date: July 6, 2021.

Time: 1:30 p.m. to 4:30 p.m. Eastern Time (ET).

Agenda: The meeting will cover committee business items including updates on NIH HEAL Initiative and Common Fund programs. It will include follow up of IPRCC recommendations and member updates.

Webcast Live: http://videocast.nih.gov/.

Deadline: Submission of intent to submit written/electronic statement for comments: Tuesday, June 29th, by 5:00 p.m. ET.

Place: National Institutes of Health, Building 31, 31 Center Drive Bethesda, MD 20892 (Virtual Meeting).

Contact Person: Linda L. Porter, Ph.D., Director, Office of Pain Policy and Planning, Office of the Director, National Institute of Neurological Disorders and Stroke, NIH, 31 Center Drive, Room 8A31, Bethesda, MD 20892, Phone: (301) 451-4460, Email: Linda.Porter@nih.gov.

Any interested person may file written comments with the committee by forwarding the statement to the Contact Person listed on this notice. The statement should include the name, address, telephone number and when applicable, the business or professional affiliation of the interested person.

The meeting will be open to the public via NIH Videocast https://videocast.nih.gov/. Visit the IPRCC website for more information: http://iprcc.nih.gov. Agenda and any additional information for the meeting will be posted when available.

Dated: May 27, 2021.
Tyeshia M. Roberson,
Program Analyst; Office of Federal Advisory Committee Policy.

[FR Doc. 2021-11641 Filed 6-2-21; 8:45 am]

BILLING CODE 4140-01-P